DEPARTMENT OF COMMERCE

National Oceanic and Atmospheric Administration

[RTID 0648-XA750]

North Pacific Fishery Management Council; Public Meeting

AGENCY: National Marine Fisheries Service (NMFS), National Oceanic and Atmospheric Administration (NOAA), Commerce.

ACTION: Notice of a webconference.

SUMMARY: The North Pacific Fishery Management Council's (NPFMC) Enforcement Committee will meet January 28, 2021.

DATES: The meeting will be held on Thursday, January 28, 2021, from 1 p.m. to

3 p.m., Alaska time.

ADDRESSES: The meeting will be a webconference. Join online through the link at https://meetings.npfmc.org/Meeting/Details/1849.

Council address: North Pacific Fishery Management Council, 1007 W 3rd Ave., Anchorage, AK 99501-2252; telephone: (907) 271-2809. Instructions for attending the meeting are given under SUPPLEMENTARY INFORMATION, below.

FOR FURTHER INFORMATION CONTACT: Jon McCracken, Council staff; phone; (907) 271-2809 and email: jon.mccracken@noaa.gov. For technical support please contact administrative Council staff, email: npfmc.admin@noaa.gov.

SUPPLEMENTARY INFORMATION:

Agenda

Thursday, January 28, 2021

The Enforcement Committee will review a Council action to eliminate the prohibition on discarding sablefish that is currently in regulation for the IFQ sablefish fishery. The agenda is subject to change, and the latest version will be posted at https://meetings.npfmc.org/Meeting/Details/1849 prior to the meeting, along with meeting materials.

Connection Information

You can attend the meeting online using a computer, tablet, or smart phone; or by phone only. Connection information will be posted online at: https://meetings.npfmc.org/Meeting/Details/1849.

Public Comment

Public comment letters will be accepted and should be submitted electronically to https://meetings.npfmc.org/Meeting/Details/1849.

Authority: 16 U.S.C. 1801 et seq.

Dated: January 6, 2021.
Rey Israel Marquez,
Acting Deputy Director, Office of Sustainable Fisheries, National Marine Fisheries Service.

[FR Doc. 2021-00275 Filed 1-8-21; 8:45 am]

BILLING CODE 3510-22-P